EXPORT-IMPORT BANK

[Public Notice 2017-6010]

Agency Information Collection Activities: Comment Request

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995.

The collection provides EXIM staff with the information necessary to monitor the borrower's payments for exported goods covered under its short and medium-term export credit insurance policies. It also alerts EXIM staff of defaults, so they can manage the portfolio in an informed manner.

DATES: Comments must be received on or before December 15, 2017 to be assured of consideration.

ADDRESSES: Comments may be submitted electronically on www.regulations.gov or by mail to Mia Johnson, Export-Import Bank of the United States, 811 Vermont Ave. NW., Washington, DC 20571.

Form can be viewed at https://www.exim.gov/sites/default/files/pub/pending/eib92-27.pdf.

SUPPLEMENTARY INFORMATION:

Title and Form Number: EIB 92-27 Report of Overdue Accounts Under Short-Term Policies.

OMB Number: 3048-0027.

Type of Review: Regular.

Need and Use: The collection provides EXIM staff with the information necessary to monitor the borrower's payments for exported goods covered under its short- and medium term export credit insurance policies. It also alerts Ex-Im Bank staff of defaults, so they can manage the portfolio in an informed manner.

Affected Public: This form affects entities involved in the export of U.S. goods and services.

Annual Number of Respondents: 745.

Estimated Time per Respondent: 15 minutes.

Annual Burden Hours: 186.25 hours.

Frequency of Reporting or Use: Monthly.

Government Expenses:

Reviewing Time per Year: 186.25 hours.

Average Wages per Hour: $42.50.

Average Cost per Year: $7,915.62.

Benefits and Overhead: 20%.

Total Government Cost: $9,498.75.

Bassam Doughman,
IT Specialist.

[FR Doc. 2017-22298 Filed 10-13-17; 8:45 am]

BILLING CODE 6690-01-P